DEPARTMENT OF JUSTICE

Notice of Lodging of Settlement Agreement Under the Comprehensive Environmental Response, Compensation and Liability Act (“CERCLA”)

Under 28 CFR 50.7, notice is hereby given that on August 22, 2003, a proposed settlement agreement In The Matter of Stoody Company, Debtor, Chapter 11, No. 01-52847-399, was lodged with the United States Bankruptcy Court for the Eastern District of Missouri.

The United States' claims in this action arise under Sections 106 and 107 of the Comprehensive Environmental Response, Compensation and Liability Act (“CERCLA”), 42 U.S.C. 9606 and 9607, and Section 7003 of the Resource Conservation and Recovery Act, as amended (“RCRA”), 42 U.S.C. 6973, for releases and threatened releases of hazardous substances at the Puente Valley Operable Unit of the San Gabriel Valley Superfund Site, Area 4, Los Angeles County, California, that may present an imminent and substantial endangerment to public health or welfare or the environment.

The settlement agreement resolves Debtor Stoody Company's liability for past costs, future costs, and work associated with the remedial action required for the Site set forth in the Environmental Protection Agency's 1998 Interim Record of Decision.

The Department of Justice will receive for a period of thirty (30) days from the date of this publication comments relating to the consent decree. Comments should be addressed to the Assistant Attorney General, Environment and Natural Resources Division, P.O. Box 7611, U.S. Department of Justice, Washington, DC 20044-7611, and should refer to In The Matter of Stoody Company, Debtor, D.J. Ref. 90-11-2-354/9. Commenters may request an opportunity for a public meeting in the affected area, in accordance with Section 7003(d) of RCRA, 42 U.S.C. 6973(d).

The settlement agreement may be examined at the Office of U.S. Attorney, Civil Division, 111 South 10th Street, 18th Floor, St. Louis, Missouri or at the U.S. Environmental Protection Agency Region IX, 75 Hawthorne Street, San Francisco, California. During the public comment period the settlement agreement also may be examined on the following Department of Justice Web site, http://www.usdoj.gov/enrd/open.html. A copy of the settlement agreement may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $3.00 (12 pages @ 25 cents per page reproduction cost), payable to the U.S. Treasury.

Ellen M. Mahan,
Assistant Chief, Environmental Enforcement Section, Environment and Natural Resources Division.

[FR Doc. 03-23074 Filed 9-9-03; 8:45 am]

BILLING CODE 4410-15-M